NATIONAL AERONAUTICS AND SPACE ADMINISTRATION

[Notice: (14-117)]

NASA International Space Station Advisory Committee; Meeting

AGENCY: National Aeronautics and Space Administration (NASA).

ACTION: Notice of Meeting.

SUMMARY: In accordance with the Federal Advisory Committee Act, Public Law 92-463, as amended, the National Aeronautics and Space Administration (NASA) announces a meeting of the NASA International Space Station (ISS) Advisory Committee. The purpose of the meeting is to review all aspects related to the safety and operational readiness of the ISS, and to assess the possibilities for using the ISS for future space exploration.

DATES: Thursday, December 11, 2014, 2:00-3:00 p.m., Local Time.

ADDRESSES: NASA Headquarters, Room 5H42-A, 300 E Street SW., Washington, DC 20546. Note: 5H42-A is located on the fifth floor of NASA Headquarters.

FOR FURTHER INFORMATION CONTACT: Mr. Greg Mann, Office of International and Interagency Relations, (202) 358-5140, NASA Headquarters, Washington, DC 20546-0001.

SUPPLEMENTARY INFORMATION: This meeting will be open to the public up to the seating capacity of the room. This meeting is also accessible via teleconference. To participate telephonically, please contact Mr. Greg Mann as noted above before 4:30 p.m., Local Time, on December 10, 2014. Please provide name, affiliation, and phone number.

Attendees will be requested to sign a register and to comply with NASA Headquarters security requirements, including the presentation of a valid picture ID before receiving access to NASA Headquarters. Foreign nationals attending this meeting will be required to provide a copy of their passport and visa in addition to providing the following information no less than 10 working days prior to the meeting: full name; gender; date/place of birth; citizenship; passport information (number, country, telephone); visa information (number, type, expiration date); employer/affiliation information (name of institution, address, country, telephone); title/position of attendee. To expedite admittance, attendees with U.S. citizenship and Permanent Residents (green card holders) can provide full name and citizenship status 3 working days in advance to Mr. Mann via email at gmann@nasa.gov, by telephone at (202) 358-5140, or fax at (202) 358-3030. It is imperative that the meeting be held on this date to accommodate the scheduling priorities of the key participants.

Patricia D. Rausch,
Advisory Committee Management Officer, National Aeronautics and Space Administration.

[FR Doc. 2014-27182 Filed 11-17-14; 8:45 am]

BILLING CODE 7510-13-P